NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by October 15, 2024. This application may be inspected by interested parties at the Permit Office, address below.

ADDRESSES: Comments should be addressed to Permit Office, Office of Polar Programs, National Science Foundation, 2415 Eisenhower Avenue, Alexandria, Virginia 22314 or ACApermits@nsf.gov.

FOR FURTHER INFORMATION CONTACT: Andrew Titmus, ACA Permit Officer, at the above address, 703-292-4479.

SUPPLEMENTARY INFORMATION: The National Science Foundation, as directed by the Antarctic Conservation Act of 1978 (Pub. L. 95-541, 45 CFR 671), as amended by the Antarctic Science, Tourism and Conservation Act of 1996, has developed regulations for the establishment of a permit system for various activities in Antarctica and designation of certain animals and certain geographic areas as requiring special protection. The regulations establish such a permit system to designate Antarctic Specially Protected Areas.

Application Details

Permit Application: 2025-011

1. Applicant: Robin West, VP & GM Expeditions, Seabourn Quest, Seabourn Cruise Line Ltd., 450 Third Ave. W, Seattle, WA 98119.

Activity for Which Permit is Requested: Waste Management. The applicant proposes to operate small, battery-operated remotely piloted aircraft systems (RPAS) consisting, in part, of a quadcopter equipped with cameras to collect commercial and educational footage of the Antarctic. The quadcopter would not be flown over concentrations of birds or mammals, or over Antarctic Specially Protected Areas or Historic Sites and Monuments. The RPAS would only be operated by pilots with extensive experience, who are pre-approved by the Expedition Leader. Several mitigation measures to reduce environmental impacts and prevent against loss of the quadcopter include painting the them a high-visibility color; only flying when the wind is less than 25 knots; flying for only 15 minutes at a time to preserve battery life; having prop guards on propeller tips, a flotation device if operated over water, and an “auto go home” feature in case of loss of control link or low battery; having an observer on the lookout for wildlife, people, and other hazards; ensuring that the separation between the operator and quadcopter does not exceed an operational range of 500 meters; and implementing biosecurity measures by using disinfecting agents before and after each flight. The applicant is seeking a Waste Permit to cover any accidental releases that may result from operating the RPAS.

Location: Antarctic Peninsula Region.

Dates of Permitted Activities: October 27, 2024-March 6, 2028.

Permit Application: 2025-013

2. Applicant: Heather Lynch, Stony Brook University, IACS 163, Stony Brook, NY 11794.

Activity for Which Permit is Requested: Waste Management. The applicant seeks an Antarctic Conservation Act waste management permit for activities associated with penguin population surveys in the Western Antarctic Peninsula and the South Shetland Islands. The applicant proposes using battery-powered, quadrotor unmanned aerial vehicles (UAVs) to assist in the collection of imagery data for a multi-scale population census of penguin colonies. The UAV will only be flown by a pilot with extensive experience. Mitigation measures will be put in place to prevent loss of aircraft. These measures include UAVs being flown by a trained pilot in fair-weather conditions and having stationed observers maintain visual contact with the aircraft at all times. The applicant proposes various recovery methods in the unlikely event that an aircraft is lost over land or sea. These measures will limit any potential impacts on the Antarctic environment. The applicant seeks a waste permit to cover any accidental release that may result from UAV use.

Location: King George Island, South Shetland Islands; Western Antarctic Peninsula.

Dates of Permitted Activities: December 1, 2024-March 1, 2025.

Alina Pavao,
Administrative Assistant, Office of Polar Programs.

[FR Doc. 2024-20681 Filed 9-11-24; 8:45 am]

BILLING CODE 7555-01-P